DEPARTMENT OF JUSTICE

Notice of Lodging Proposed Consent Decree

Pursuant to Section 122(d)(2) of CERCLA, 42 U.S.C. 9622(d)(2), notice is hereby given that on January 8, 2010, a proposed Consent Decree in U.S. v. The City and County of Denver, Civil Action No. 1:97-cv-1611, was lodged with the United States District Court for the District of Colorado.

The proposed Consent Decree concerns a complaint filed by the United States against the City and County of Denver, Colorado, in which the United States sought a declaratory judgment that a “disposal fee” established by ordinance by the City and County of Denver (“Denver”) was void and unenforceable against the United States and other persons performing remedial actions at operable units of the Denver Radium Superfund Site (“Site”) and a permanent injunction prohibiting Denver from enforcing the disposal fee against those entities. Denver counterclaimed against the United States pursuant to Section 107 of CERCLA, 42 U.S.C. 9607, seeking its claimed response costs relating to the Site.

Under the proposed Consent Decree, the United States will pay Denver the sum of $550,000 in settlement of Denver's counterclaims against the United States. In addition, among other provisions of the proposed Consent Decree, Denver releases the United States, its contractors, and potentially responsible parties acting under the direction of the United States, from any obligation to pay fees pursuant to Denver's ordinance; Denver agrees to implement certain institutional controls regarding the Site; and that under certain conditions, Denver is granted a covenant not to sue for future CERCLA liability at sites to which it sends wastes removed from the Site.

The Department of Justice will accept written comments relating to this proposed Consent Decree for thirty (30) days from the date of publication of this Notice. Please address comments to Daniel Pinkston, Environmental Defense Section, Environment and Natural Resources Section, U.S. Department of Justice, 1961 Stout Street, 8th Floor, Denver, Colorado 80294, daniel.pinkston@usdoj.gov, and refer to U.S. v. The City and County of Denver, DJ # 90-11-6-18417.

The proposed Consent Decree may be examined at the Clerk's Office, United States District Court for the District of Colorado, Alfred A. Arraj United States Courthouse, Room A105, 901 19th Street, Denver, CO 80294-3589. In addition, the proposed Consent Decree may be viewed at http://www.usdoj.gov/enrd/Consent_Decrees.html.

Maureen M. Katz,
Assistant Section Chief, Environment & Natural Resources Division.

[FR Doc. 2010-727 Filed 1-15-10; 8:45 am]

BILLING CODE P